DEPARTMENT OF HOMELAND SECURITY

Coast Guard

[USCG-2009-0115]

Information Collection Request to Office of Management and Budget; OMB Control Numbers: 1625-0009, 1625-0047, 1625-0063, 1625-0070, and 1625-0084

AGENCY: Coast Guard, DHS.

ACTION: Sixty-day notice requesting comments.

SUMMARY: In compliance with the Paperwork Reduction Act of 1995, the U.S. Coast Guard intends to submit Information Collection Requests (ICRs) and Analyses to the Office of Management and Budget (OMB) requesting an extension of its approval for the following collections of information: (1) 1625-0009, Oil Record Book for Ships; (2) 1625-0047, Plan Review and Records for Vital System Automation; (3) 1625-0063, Marine Occupational Health and Safety Standards for Benzene—46 CFR 197 Subpart C; (4) 1625-0070, Vessel Identification System; and (5) 1625-0084, Audit Reports under the International Safety Management Code. Before submitting these ICRs to OMB, the Coast Guard is inviting comments as described below.

DATES: Comments must reach the Coast Guard on or before May 11, 2009.

ADDRESSES: To avoid duplicate submissions to the docket [USCG-2009-0115], please use only one of the following means:

(1) Online: http://www.regulations.gov.

(2) Mail: Docket Management Facility (DMF) (M-30), U.S. Department of Transportation (DOT), West Building Ground Floor, Room W12-140, 1200 New Jersey Avenue, SE., Washington, DC 20590-0001.

(3) Hand deliver: Same as mail address above, between 9 a.m. and 5 p.m., Monday through Friday, except Federal holidays. The telephone number is 202-366-9329.

(4) Fax: 202-493-2251.

The DMF maintains the public docket for this Notice. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

Copies of the ICRs are available through the docket on the Internet at http://www.regulations.gov. Additionally, copies are available from Commandant (CG-611), U.S. Coast Guard Headquarters, (Attn: Mr. Arthur Requina), 2100 2nd Street SW., Washington, DC 20593-0001. The telephone number is 202-475-3523.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

The Coast Guard invites comments on whether these ICRs should be granted based on the collections being necessary for the proper performance of Departmental functions. In particular, the Coast Guard would appreciate comments addressing: (1) The practical utility of the collections; (2) the accuracy of the estimated burden of the collections; (3) ways to enhance the quality, utility, and clarity of information subject to the collections; and (4) ways to minimize the burden of the collections on respondents, including the use of automated collection techniques or other forms of information technology.

We encourage you to respond to this request by submitting comments and related materials. We will post all comments received, without change, to http://www.regulations.gov. They will include any personal information you provide. We have an agreement with DOT to use its DMF. Please see the “Privacy Act” paragraph below.

Submitting comments: If you submit a comment, please include the docket number [USCG-2009-0115], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We will consider all comments and material received during the comment period and will address them accordingly.

Viewing comments and documents: Go to http://www.regulations.gov to view documents mentioned in this Notice as being available in the docket. Enter the docket number for this Notice [USCG-2009-0115] in the Search box, and click “Go >>.” You may also visit the DMF in room W12-140 on the West Building Ground Floor, 1200 New Jersey Avenue SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement regarding our public dockets in the January 17, 2008 issue of the Federal Register (73 FR 3316).

Information Collection Request

1. Title: Oil Record Book for Ships.

OMB Control Number: 1625-0009.

Summary: The Act to Prevent Pollution from Ships (APPS) and the International Convention for Prevention of Pollution from Ships, 1973, as modified by the 1978 Protocol relating thereto (MARPOL 73/78), requires information about oil cargo or fuel operations be entered into an Oil Record Book (CG-4602A). The requirement is contained in 33 CFR 151.25.

Need: This information is used to verify sightings regarding actual violations of the APPS to determine the level of compliance with MARPOL 73/78 and as a means of reinforcing the discharge provisions.

Forms: CG-4602A.

Respondents: Operators of vessels.

Frequency: On occasion.

Burden Estimate: The estimated burden has decreased from 26,993 hours to 19,425 hours a year.

2. Title: Plan Review and Records for Vital System Automation.

OMB Control Number: 1625-0047.

Summary: This collection pertains to the vital system automation on commercial vessels necessary to protecting personnel and property on board U.S.-flag vessels.

Need: Title 46 U.S.C. 3306 authorizes the Coast Guard to promulgate regulations for the safety of personnel and property onboard vessels. Title 46 CFR parts 52, 56, 58, 62, 110, 111, and 113 contain these regulations.

Forms: None.

Respondents: Designers, manufacturers, and owners of vessels.

Frequency: On occasion.

Burden Estimate: The estimated burden has decreased from 65,400 hours to 60,000 hours a year.

3. Title: Marine Occupational Health and Safety Standards for Benzene—46 CFR part 197 subpart C.

OMB Control Number: 1625-0063.

Summary: To protect marine workers from exposure to toxic Benzene vapor, the Coast Guard implemented Title 46 CFR part 197 subpart C.

Need: This information collection is vital to verifying compliance.

Forms: None.

Respondents: Owners and operators of vessels.

Frequency: On occasion.

Burden Estimate: The estimated burden remains 59,766 hours a year.

4. Title: Vessel Identification System.

OMB Control Number: 1625-0070.

Summary: The Coast Guard established a nationwide Vessel Identification System (VIS) and centralized certain vessel documentation functions. It provides participating States and Territories with access to data/numbering of vessels. Participation in VIS is voluntary.

Need: Title 46 U.S.C. 12501 mandates the establishment of a VIS. Title 33 CFR part 187 prescribe the requirements.

Forms: None.

Respondents: Governments of States and Territories.

Frequency: Daily.

Burden Estimate: The estimated burden has decreased from 5,829 hours to 5,456 hours a year.

5. Title: Audit Reports under the International Safety Management Code (ISM).

OMB Control Number: 1625-0084.

Summary: This information helps to determine whether U.S. vessels, subject to SOLAS 74, engaged in international trade, are in compliance with that treaty. Organizations recognized by the Coast Guard conduct ongoing audits of vessels' and companies' safety management systems.

Need: Title 46 U.S.C. 3203 authorizes the Coast Guard to prescribe regulations regarding safety management systems. Title 33 CFR part 96 contains the rules for those systems; hence the safe operation of vessels.

Forms: None.

Respondents: Owners and operators of vessels, and organizations authorized to issue ISM Code certificates for the United States.

Frequency: On occasion.

Burden Estimate: The estimated burden has increased from 12,676 hours to 16,873 hours a year.

Dated: March 2, 2009.
D.T. Glenn,
Rear Admiral, U.S. Coast Guard, Assistant Commandant for Command, Control, Communications, Computers and Information Technology.

[FR Doc. E9-5380 Filed 3-11-09; 8:45 am]

BILLING CODE 4910-15-P